DEPARTMENT OF THE INTERIOR

National Park Service

[NPS-WASO-NRNHL-DTS#-37273; PPWOCRADI0, PCU00RP14.R50000]

National Register of Historic Places; Notification of Pending Nominations and Related Actions

AGENCY: National Park Service, Interior.

ACTION: Notice.

SUMMARY: The National Park Service is soliciting electronic comments on the significance of properties nominated before January 13, 2024, for listing or related actions in the National Register of Historic Places.

DATES: Comments should be submitted electronically by February 7, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 13, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

GEORGIA

Rockdale County

Fountain Hill, Address Restricted, Conyers vicinity, SG100009953

MASSACHUSETTS

Bristol County

Bradford Durfee Textile School, 64 Durfee Street, Fall River, SG100009976

Suffolk County

Uphams Corner Historic District, Generally along Columbia Road from Annabel Street to the north to Bird Street to the south, Boston, SG100009975

MISSISSIPPI

Adams County

Holy Family Catholic Church Historic District, (Civil Rights Resources of Natchez and Adams County, Mississippi MPS), Roughly, along Aldrich, Old D'Evereux, St. Catherine, Abbott and Byrne Sts., Natchez, MP95000855

NEVADA

Clark County

Leroy and Carrie Christensen House, 500 W. Van Buren Street, Las Vegas, SG100009944

Elko County

El Rancho Hotel and Casino, 1629 Lake Avenue, Wells, SG100009943

Lincoln County

Gem Theater, 648 Main Street, Pioche, SG100009942

NEW YORK

Broome County

State Street-Henry Street Historic District (Boundary Increase), 221 Washington Street to Lewis Street; 1 Lewis Street to Prospect Avenue; 212 State Street to CP Rail Systems track; East Clinton Street, Binghamton, BC100009963

Dutchess County

Main Mall Historic District (Boundary Increase), (Poughkeepsie MRA), 293-317 Main St. and 3-6 Garden St., Poughkeepsie, BC100009967

New York County

Our Lady of Victory National Shrine and Basilica Historic District, 777 Ridge Road and 781 Ridge Road, Lackawanna, SG100009962

Onondaga County

H.A. Moyer Factory Complex (Boundary Increase), (Industrial Resources in the City of Syracuse, Onondaga County, NY MPS), 1920 Park St, Syracuse, BC100009965

J.F. O'Connor Sales Company Garage, 1641 East Genesee Street, Syracuse, SG100009969

NORTH CAROLINA

Orange County

Navy Reserve Officers Training Corps (NRQTC) Naval Armory at UNC-Chapel Hill, 221 South Columbia St., Chapel Hill, SG100009948

TENNESSEE

Sumner County

Scattersville Public School, 227 Scattersville Road, Portland, SG100009970

TEXAS

Aransas County

Rockport School, 619 North Live Oak Street, Rockport, SG100009945

Galveston County

Rosewood Cemetery, 2825 63rd Street, Galveston, SG100009946

Harris County

K'nesseth Israel Synagogue, 100 West Sterling Avenue, Baytown, SG100009949

VIRGINIA

Montgomery County

Pilot School, 4449 Brush Creek Road/Route 617, Pilot, SG100009956

Roanoke INDEPENDENT CITY

Norfolk & Western Class J No. 611 Locomotive, 303 Norfolk Avenue SW, Roanoke, SG100009961

Salem INDEPENDENT CITY

Hart Motor Company, 1341 E. Main Street, Salem, SG100009960

A request for removal has been made for the following resource(s):

MASSACHUSETTS

Middlesex County

Curtis, Allen Crocker, House-Pillar House, (Newton MRA), 26 Quinobequin Rd., Newton, OT86001787

Jaquith, Abraham, House, (First Period Buildings of Eastern Massachusetts TR), 161 Concord Rd., Billerica, OT90000166

Additional documentation has been received for the following resource(s):

ARKANSAS

Pulaski County

Railroad Call Historic District (Additional Documentation), 108, 112, and 114 S. Pulaski St., Little Rock, AD97000749

NEW YORK

Dutchess County

Main Mall Historic District (Additional Documentation), (Poughkeepsie MRA), 315 Main Mall to 11 Garden St., Poughkeepsie, AD82001148.

Onondaga County

H.A. Moyer Factory Complex (Additional Documentation), (Industrial Resources in the City of Syracuse, Onondaga County, NY MPS), 1710 North Salina and 301 Wolf Sts., Syracuse, AD100007668

TENNESSEE

Bradley County

Hughes, W. J., Business House (Additional Documentation), 3202 Ocoee St., Cleveland, AD75001735

Davidson County

Litterer Laboratory (Additional Documentation), 631 2nd Ave., S., Nashville, AD78002581

Madison County

Jackson Free Library (Additional Documentation), College and Church Sts., Jackson, AD75001769

Marshall County

Cornersville Methodist Episcopal Church South (Additional Documentation), 100 S. Mulberry St., Cornersville, AD82003991

Wilson County

Memorial Hall, Cumberland University (Additional Documentation), Cumberland University campus, Lebanon, AD77001301

Authority: Section 60.13 of 36 CFR part 60.

Sherry A. Frear,
Chief, National Register of Historic Places/National Historic Landmarks Program.

[FR Doc. 2024-01261 Filed 1-22-24; 8:45 am]

BILLING CODE 4312-52-P